ENVIRONMENTAL PROTECTION AGENCY

[EPA-HQ-OPP-2010-0014; FRL-9908-31]

Product Cancellation Order for Certain Pesticide Registrations

AGENCY: Environmental Protection Agency (EPA).

ACTION: Notice.

SUMMARY: This notice announces EPA's order for the cancellations, voluntarily requested by the registrants and accepted by the Agency of the products listed in Table 1 of Unit II., pursuant to the Federal Insecticide, Fungicide, and Rodenticide Act (FIFRA). This cancellation order follows an August 28, 2013, Federal Register Notice of Receipt of Requests from the registrants listed in Table 2 of Unit II., to voluntarily cancel these product registrations. In the August 28, 2013 notice, EPA indicated that it would issue an order implementing the cancellations, unless the Agency received substantive comments within the 180 day comment period that would merit its further review of these requests, or unless the registrants withdrew their requests. The Agency received one comment on the notice but it did not merit its further review of the request. Further, the registrants did not withdraw their requests. Accordingly, EPA hereby issues in this notice a cancellation order granting the requested cancellations. Any distribution, sale, or use of the products subject to this cancellation order is permitted only in accordance with the terms of this order, including any existing stocks provisions.

DATES: The cancellations are effective April 11, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. These registrations are listed in sequence by registration number in Table 1 of this unit.

Table 1—Product Cancellations
EPA Registration number | Product name | Chemical name
000100-00736 | Banner GL | Propiconazole.
000100-00737 | Tilt Gel Fungicide | Propiconazole.
000400-00587 | Technical Orthosulfamuron | Orthosulfamuron.
000400-00588 | Percutio GR | Orthosulfamuron.
000400-00589 | Percutio WG | Orthosulfamuron.
000400-00590 | Percutio XT | Orthosulfamuron.
012455-00134 | Technical Hydramethylnon | Hydramethylnon.
033688-00005 | Technical Amitrole | Amitrole.
033688-00006 | Maxata Brand Industrial Herbicide | Amitrole.
033688-00010 | Maxata Water Soluble Granules | Amitrole.
062190-00008 | Wolman Concentrate 72% | Arsenic Oxide (As2O5), Chromic Acid, Cupric Oxide.
CA-100005 | Terad3 Ag Pellets | Cholecalciferol (9, 10-Secocholesta-5,7,10(19)-trien-3-ol, (3 beta., 5Z,7E)-).
NC-090005 | Milestone VM | Triisopropanolamine salt of aminopyralid.
NC-100004 | Milestone VM | Triisopropanolamine salt of aminopyralid.
WA-980019 | Agri-Mek 0.15EC Miticide/Insecticide | Abamectin.
WI-110003 | Lorsban 15G | Chlorpyrifos.
WI-110005 | Spartan 4F | Sulfentrazone.

Table 2 of this unit includes the names and addresses of record for all registrants of the products in Table 1 of this unit, in sequence by EPA company number. This number corresponds to the first part of the EPA registration numbers of the products listed in Table 1 of this unit.

Table 2.—Registrants of Cancelled Products
EPA Company number | Company name and address
100 WA-980019 | Syngenta Crop Protection, LLC, 410 Swing Rd., P.O. Box 18300 Greensboro, NC 27419-8300.
400 | Chemtura Corporation 199 Benson Rd., Middlebury, CT 06749.
12455 CA-100005 | Bell Laboratories, Inc., 3699 Kinsman Blvd., Madison, WI 53704.
33688 | Nufarm SA, Agent: Nufarm Americas, Inc., 4020 Aerial Center Parkway, Suite 101, Morrisville, NC 27560.
62190 | Arch Wood Protection, Inc., 5660 New Northside Dr. NW., Suite 1100, Atlanta, GA 30328.
NC-090005; NC-100004; WI-110003 | Dow AgroSciences, LLC, 9330 Zionsville Rd., 308/2E, Indianapolis, IN 46268-1054.
WI-110005 | FMC Corp., Agricultural Products Group, Attn: Michael C. Zucker, 1735 Market St., Room 1978, Philadelphia, PA 19103.

III. Summary of Public Comments Received and Agency Response to Comments

During the public comment period, EPA received one comment. The Agency does not believe that the comment submitted during the comment period merits further review or a denial of the request for voluntary cancellation.

IV. Cancellation Order

Pursuant to FIFRA section 6(f), EPA hereby approves the requested cancellations of the registrations identified in Table 1 of Unit II. Accordingly, the Agency hereby orders that the product registrations identified in Table 1 of Unit II. are cancelled. The effective date of the cancellations that are the subject of this notice is April 11, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of August 28, 2013 (78 FR 53141) (FRL-9396-4). The comment period closed on February 24, 2014.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until April 13, 2015, which is 1 year after the publication of the Cancellation Order in the Federal Register. Thereafter, the registrants are prohibited from selling or distributing products listed in Table 1 of Unit II., except for export in accordance with FIFRA section 17, or proper disposal. Persons other than the registrants may sell, distribute, or use existing stocks of products listed in Table 1 of Unit II., until existing stocks are exhausted, provided that such sale, distribution, or use is consistent with the terms of the previously approved labeling on, or that accompanied, the cancelled products.

List of Subjects

Environmental protection, Pesticides and pests.

Dated: April 3, 2014.
Richard P. Keigwin, Jr.,
Director, Pesticide Re-Evaluation Division, Office of Pesticide Programs.

[FR Doc. 2014-08206 Filed 4-10-14; 8:45 am]

BILLING CODE 6560-50-P